DEPARTMENT OF HOMELAND SECURITY

Office of the Secretary

[DHS-2005-0019]

Homeland Security Advisory Council; Correction

AGENCY: Office of the Secretary, DHS.

ACTION: Notice of correction; notice of Federal Advisory Committee meeting.

SUMMARY: The Department of Homeland Security (DHS) is correcting a notice that was published in the Federal Register on March 7, 2005, at 70 FR 11017 which announced the holding of a meeting for the purposes of receiving reports and briefings, and member deliberations. In the ADDRESSES section to the notice, DHS inadvertently omitted the identification of the appropriate DHS docket number associated with the notice. DHS would like to announce that the DHS docket number for submitting comments via to this notice is DHS-2005-0019. Directions for submitting comments using this method are outlined within 70 FR 11017.

DATES: This correction is effective March 10, 2005.

FOR FURTHER INFORMATION CONTACT: Mike Miron, Homeland Security Advisory Council, Department of Homeland Security, Washington, DC 20528.

SUPPLEMENTARY INFORMATION:

Need for Correction

As published in the Federal Register on March 7, 2005 (70 FR 11017), the notice contains an error that is in need of correction.

Correction of Publication

Accordingly, the publication on March 7, 2005 (70 FR 11017), is corrected as follows:

1. On page 11017, in the third column, beginning on the third line of the heading after “Office of the Secretary” and before “Homeland Security Advisory Council”, a new line should be added to read: “DHS Docket Number DHS-2005-0019”

Dated: March 8, 2005.
Mary Kate Whalen,
Deputy-Associate General Counsel for Rules, Office of the General Counsel, U.S. Department of Homeland Security.

[FR Doc. 05-4875 Filed 3-8-05; 2:26 pm]

BILLING CODE 4410-10-P